DEPARTMENT OF ENERGY

Federal Energy Regulatory Commission

[Docket No. ER23-1660-000]

Cleco Power LLC; Notice Shortening Comment Period

1. On June 6, 2023, Cleco Power LLC (Cleco) filed an Unopposed Second Motion for Extension of Comment Period and Limited Abeyance (Motion). Cleco's Motion requests an extension of time from June 8, 2023 to June 29, 2023, to comment on its Request for Limited Waiver and Expedited Consideration, requesting waiver of the Midcontinent Independent System Operator, Inc.'s (MISO) Open Access Transmission, Energy and Operating Reserve Markets Tariff to allow it to extend its expected Commercial Operation Date under the MISO Generator Replacement Process, filed on April 18, 2023, in the above-captioned proceeding. Cleco requests that the Commission shorten the period for responses to this motion to one business day.

2. Upon consideration, notice is hereby given that the deadline for filing answers to Cleco's June 6, 2023 Motion is shortened to 12:00 p.m., EST, on Thursday June 8, 2023.

Dated: June 7, 2023.
Debbie-Anne A. Reese,
Deputy Secretary.

[FR Doc. 2023-12629 Filed 6-12-23; 8:45 am]

BILLING CODE 6717-01-P